OFFICE OF PERSONNEL MANAGEMENT

Submission for OMB Review; Comment Request for Review of a Revised Information Collection: Multi-State Plan Program External Review Case Intake Form, OPM Form 1840

AGENCY: Office of Personnel Management.

ACTION: Notice.

SUMMARY: The Office of Personnel Management (OPM) has submitted to the Office of Management and Budget (OMB) a request for review of a revision of a currently approved collection, the Multi-State Plan Program External Review Intake Form, OPM Form 1840. This approval is necessary to improve the collection of information from members of the Multi-State Plan Program who need to request the external review of a disputed adverse benefit decision.

DATES: Comments will be accepted until July 3, 2017.

ADDRESSES: Send or deliver comments to: Donna Lease Batdorf, Multi-State Plan Program, National Healthcare Operations, Healthcare and Insurance, Office of Personnel Management, 1900 E Street NW., Room 3468, Washington, DC 20415; and Charlie Cutshaw, OPM Desk Officer, Office of Information & Regulatory Affairs, Office of Management and Budget, New Executive Office Building NW., Room 10235, Washington, DC 20503.

FOR FURTHER INFORMATION CONTACT: For copies of this proposal, contact C.C. “Corky” Conyers, Ph.D., C.I.O. P.R.A./Forms Officer at (202) 606-0125, or via email to Charles.Conyers@opm.gov. Please include a mailing address with your request.

SUPPLEMENTARY INFORMATION: As required by the Paperwork Reduction Act of 1995 (Pub. L. 104-13, May 22, 1995), as amended by the Clinger-Cohen Act (Pub. L. 104-106), OPM is soliciting comments for this collection. The previous collection (OMB No. 3206-0263) was published in the Federal Register on November 26, 2013 at 78 FR 70598. Approximately 800 respondents will complete the Multi-State Plan Program External Review Intake Form, OPM Form 1840 on a yearly basis. We estimate it will take 60 minutes to complete the OPM Form 1840. The annual estimated burden is 800 hours.

Comments are particularly invited on:

1. Whether this collection of information is necessary for the proper performance of functions of the Office of Personnel Management, and whether it will have practical utility;

2. Whether our estimate of the public burden of this collection is accurate, and based on valid assumptions and methodology; and

3. Ways in which we can minimize the burden of the collection of information on those who are to respond, through the use of the appropriate technological collection techniques or other forms of information technology.

Analysis

Agency: Multi-State Plan Program, National Healthcare Operations, Healthcare and Insurance, Office of Personnel Management.

Title: External Review Intake Form.

OMB: 3206-0263.

Frequency

Affected Public: Individuals or Households.

Number of Respondents: 800.

Estimated Time per Respondent: 60 minutes.

Total Burden Hours: 800 hours.

Kathleen M. McGettigan,
Acting Director, U.S. Office of Personnel Management.

[FR Doc. 2017-11438 Filed 6-1-17; 8:45 am]

BILLING CODE 6325-64-P